SMALL BUSINESS ADMINISTRATION

Agency Information Collection Activities; Submission to the Office of Management and Budget (OMB) for Review and Approval; Comment Request

AGENCY: Small Business Administration.

ACTION: 30-Day notice and request for comments.

SUMMARY: The Small Business Administration (SBA) intends to request approval, from the Office of Management and Budget (OMB), for the collection of information described below. The Paperwork Reduction Act (PRA) requires federal agencies to publish a notice in the Federal Register concerning each collection of information before submission to OMB and to allow 30 days for public comment in response to the notice. This information collection is currently approved under emergency procedures, which included waiver of notice. This publication complies with the PRA requirement to publish that previously waived notice.

DATES: Submit comments on or before March 31, 2022.

ADDRESSES: Send all comments related to this Federal Register Notice electronically to 7apaycheckloanprogramquestions@sba.gov with the Subject Line: “SBA Form 3512 Comments.”

FOR FURTHER INFORMATION CONTACT: Adrienne Grierson, Program Manager, at adrienne.grierson@sba.gov; 202-205-6573, or Curtis B. Rich, Management Analyst, 202-205-7030; curtis.rich@sba.gov.

SUPPLEMENTARY INFORMATION: Section 1102 of the Coronavirus Aid, Relief, and Economic Security (CARES) Act, Public Law 116-136, authorizes SBA to guarantee loans made by banks or other financial institutions under a new temporary 7(a) program titled the “Paycheck Protection Program” (“PPP”) to small businesses, certain non-profit organizations, veterans' organizations, Tribal business concerns, independent contractors and self-employed individuals adversely impacted by the Coronavirus Disease (COVID-19) Emergency. This authority initially expired on August 8, 2020. The Economic Aid to Hard-Hit Small Businesses, Nonprofits, and Venues Act (Economic Aid Act), Public Law 116-260, renewed SBA's authority to make PPP loans until March 31, 2021, and added authority for second draw PPP loans under § 7(a)(37) of the Small Business Act. The program authority was further extended until June 30, 2021, by the PPP Extension Act of 2021, Public Law 117-6.

Any lender that has made PPP loans can use this information collection (SBA Form 3512) to request (1) reinstatement of a PPP loan that was cancelled in SBA's ETRAN system due to the lender's data input error, and/or (2) correction of the lender's data input error in the SBA Loan Approval Amount of a PPP loan on ETRAN or the Paycheck Protection Platform, subject to availability of funds. The form contains examples of the types of lender requests for reinstatement or correction that can be submitted on the form. SBA will rely on the information submitted on this form to evaluate the lender's request. SBA obtained emergency approval for this form from OMB which expires on December 31, 2021.

(a) Solicitation of Public Comments

SBA is requesting comments on (i) Whether the collection of information is necessary for the agency to properly perform its functions; (ii) whether the burden estimates are accurate; (iii) whether there are ways to minimize the burden, including through the use of automated techniques or other forms of information technology; and (iv) whether there are ways to enhance the quality, utility, and clarity of the information.

No comments were received during the 60-day comment period which ended on August 30, 2021.

(b) Summary of Proposed Information Collection

Title: Lender Certification for Reinstatement or Correction of Paycheck Protection Program (PPP) Loan.

Form Number: SBA Form 3512.

OMB Control Number: 3245-0415.

Description of respondents: Lenders that participate in SBA's Paycheck Protection.

Estimated number of respondents: 1,350.

Estimated time per response: 30 minutes.

Total estimated annual responses: 4,000.

Total estimated annual hour burden: 2,000 hours.

Curtis Rich,
Management Analyst.

[FR Doc. 2022-00517 Filed 1-12-22; 8:45 am]

BILLING CODE 8026-03-P